SMALL BUSINESS ADMINISTRATION

13 CFR Part 125

RIN 3245-AG22

Small Business Subcontracting: Correction

AGENCY: U.S. Small Business Administration.

ACTION: Correcting amendments.

SUMMARY: This document contains corrections to the final regulations [FR Doc. 2013-169671, which were published in the Federal Register on Tuesday, July 16, 2013 (78 FR 42391). The document amended SBA's regulations governing small business subcontracting to implement provisions of the Small Business Jobs Act of 2010.

This correction amends a cross-reference contained in the regulations.

DATES: Effective September 30, 2013 and is applicable beginning August 15, 2013.

FOR FURTHER INFORMATION CONTACT: Dean Koppel, Office of Government Contracting, U.S. Small Business Administration, 409 Third Street SW., 8th Floor, Washington, DC 20416.

SUPPLEMENTARY INFORMATION:

Background

On July 16, 2013, at 78 FR 42392 (available at http://www.gpo.gov/fdsys/pkg/FR-2013-07-16/pdf/2013-16967.pdf). SBA published a final rule on subcontracting to implement provisions of the Small Business Jobs Act of 2010.

The final rule established SBA's policies for subcontracting compliance, including assignment of compliance responsibilities between contracting offices, small business offices, and program offices. Need for correction.

As published, the final regulations contain incorrect cross-references which may prove to be misleading and need to be clarified. The cross reference in 13 CFR section 125.3(g)(4) to “paragraphs (g)(2)(i) and (g)(2)(ii)” is corrected to refer to “paragraphs (g)(1)(i) and (g)(1)(ii).”

List of Subjects in 13 CFR Part 125

Government contracting programs, Small business subcontracting program.

Accordingly, 13 CFR Part 125 is corrected by making the following correcting amendments:

PART 125—GOVERNMENT CONTRACTING PROGRAMS

1. The authority citation for part 125 continues to read as follows:

Authority: 15 U.S.C. 632(p), (q); 634(b)(6); 637; 644 and 657(f); Pub. L. 111-240, section 1321.

§ 125.3 [Amended]

2. Amend paragraph (g)(4) of § 125.3 to read as follows:

§ 125.3 Subcontracting assistance.

* * * * *

(g) * * *

(4) A contracting officer shall include a significant evaluation factor for the criteria described in paragraphs (g)(1)(i) and (g)(1)(ii) of this section in a bundled contract or order as defined in § 125.2.

* * * * *

Dated: September 19, 2013.
Calvin Jenkins,
Deputy Associate Administrator for Government Contracting and Business Development.

[FR Doc. 2013-23257 Filed 9-27-13; 8:45 am]

BILLING CODE 8025-01-M